DEPARTMENT OF HEALTH AND HUMAN SERVICES

Centers for Disease Control and Prevention

[30Day-25-0020]

Agency Forms Undergoing Paperwork Reduction Act Review

In accordance with the Paperwork Reduction Act of 1995, the Centers for Disease Control and Prevention (CDC) has submitted the information collection request titled “Coal Workers' Health Surveillance Program (CWHSP)” to the Office of Management and Budget (OMB) for review and approval. CDC previously published a “Proposed Data Collection Submitted for Public Comment and Recommendations” notice on September 3, 2024 to obtain comments from the public and affected agencies. CDC did not receive comments related to the previous notice . This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Coal Workers' Health Surveillance Program (CWHSP) (OMB Control No. 0920-0020, Exp. 03/31/2025)—Reinstatement—National Institute for Occupational Safety and Health (NIOSH), Centers for Disease Control and Prevention (CDC).

Background and Brief Description

NIOSH would like to submit an Information Collection Request (ICR) to continue the data collection instruments being utilized within the Coal Workers' Health Surveillance Program (CWHSP). This request incorporates all components of the CWHSP. Those components include: Coal Workers' X-ray Surveillance Program (CWXSP), B Reader Program, Enhanced Coal Workers' Health Surveillance Program (ECWHSP), Expanded Coal Workers' Health Surveillance Program, and National Coal Workers' Autopsy Study (NCWAS).

The CWHSP is a Congressionally mandated medical examination program for monitoring the health of coal miners and was originally established under the Federal Coal Mine Health and Safety Act of 1969 with all subsequent amendments (the Act). The Act provides the regulatory authority for the administration of the CWHSP. This Program, which operates in accordance with 42 CFR part 37, is useful in providing information for protecting the health of, and in documenting trends and patterns in the prevalence of coal workers' pneumoconiosis (`black lung' disease) among U.S. coal miners.

Data is used for early detection, tracking, assessment, and ultimately prevention and/or treatment of coal workers' pneumoconiosis. It also serves to identify the incidence and possible progression of coal mine dust-induced disease in coal miners. In order to assess progression of disease it is important to obtain longitudinal measurements of past participants.

CDC requests OMB approval for an estimated 4,070 annual burden hours. There is no cost to respondents other than their time to participate.

Estimated Annualized Burden Hours
Type of respondent | Form name | Number of respondents | Number of responses per respondent | Average burden per response (in hours)
Coal Mine Operator | 2.10 | 268 | 1 | 30/60
Coal Mine Contractor | 2.18 | 165 | 1 | 30/60
Radiograph Facility Supervisor | 2.11 | 20 | 1 | 30/60
Coal Miner | 2.9 | 4,345 | 1 | 20/60
Coal Miner—Radiograph | No form required | 4,788 | 1 | 15/60
B Reader Physician | 2.8 | 10 | 899 | 3/60
Qualified and Licensed Physician (NIOSH Approved Radiograph Facility) | 2.8 | 4,788 | 1 | 3/60
Physicians taking the B Reader Examination | 2.12 | 110 | 1 | 10/60
Spirometry Facility Supervisor | 2.14 | 15 | 1 | 30/60
Spirometry Facility Employee | 2.13 | 619 | 1 | 5/60
Spirometry Technician | 2.15 | 619 | 1 | 20/60
Coal Miner—Spirometry | No form required | 619 | 1 | 15/60
Request for Medical Records | Request for Medical Records Form | 779 | 1 | 5/60
Authorization for Payment of Autopsy | 2.19 | 4 | 1 | 15/60
Pathologist | Invoice—No standard form | 4 | 1 | 5/60
Pathologist | Pathology Report—No standard form | 4 | l | 5/60
Next-of-kin for deceased miner | 2.6 | 4 | 1 | 15/60

Jeffrey M. Zirger,
Lead, Information Collection Review Office, Office of Public Health Ethics and Regulations, Office of Science, Centers for Disease Control and Prevention.

[FR Doc. 2025-05717 Filed 4-1-25; 8:45 am]

BILLING CODE 4163-18-P